DEPARTMENT OF LABOR

Employment and Training Administration

Investigations Regarding Certifications of Eligibility To Apply for Worker Adjustment Assistance and Alternative Trade Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than October 29, 2007.

Interested persons are invited to submit written comments regarding the subject matter of the investigations to the Director, Division of Trade Adjustment Assistance, at the address shown below, not later than October 29, 2007.

The petitions filed in this case are available for inspection at the Office of the Director, Division of Trade Adjustment Assistance, Employment and Training Administration, U.S. Department of Labor, Room C-5311, 200 Constitution Avenue, NW., Washington, DC 20210.

Signed at Washington, DC this 9th day of October 2007.
Ralph DiBattista,
Director, Division of Trade Adjustment Assistance.

Appendix
[Petitions instituted between 10/1/07 and 10/5/07]
TA-W | Subject firm (petitioners) | Location | Date of institution | Date of petition
62224 | Porter Engineered Systems Ohio (Comp) | Solon, OH | 10/01/07 | 08/28/07
62225 | Delphi Corporation (Wkrs) | Moraine, OH | 10/01/07 | 09/28/07
62226 | Con Agra Foods (State) | Edina, MN | 10/01/07 | 09/28/07
62227 | Plastech (Comp) | Fowlerville, MI | 10/01/07 | 09/17/07
62228 | Waverly Mills, Inc. (Comp) | Laurinburg, NC | 10/01/07 | 09/26/07
62229 | Bombardier Aerospace (State) | Wichita, KS | 10/01/07 | 09/28/07
62230 | Collins Products, LLC (IAMAW) | Klamath Falls, OR | 10/02/07 | 10/01/07
62231 | Wilson Sporting Goods Company (Comp) | Humboldt, TN | 10/02/07 | 10/01/07
62232 | Philips Lighting (USW) | Danville, KY | 10/02/07 | 09/28/07
62233 | Burke Hosiery Mills, Inc. (Comp) | Hickory, NC | 10/02/07 | 09/27/07
62234 | KLA-Tencor (Wkrs) | San Jose, CA | 10/02/07 | 09/30/07
62235 | Sanmina-SCI (Comp) | Fountain, CO | 10/02/07 | 10/01/07
62236 | AB Automotive Inc. (Comp) | Smithfield, NC | 10/02/07 | 09/30/07
62237 | Linzhi Fashion, Inc. (Wkrs) | New York, NY | 10/02/07 | 09/30/07
62238 | Crameo, Inc. (Comp) | Philadelphia, PA | 10/02/07 | 09/28/07
62239 | Southern Hosiery Mills, Inc. (Comp) | Hickory, NC | 10/03/07 | 10/02/07
62240 | Toluca Garment Company (Wkrs) | Toluca, IL | 10/03/07 | 09/21/07
62241 | Blyth Homescents Int. (Wkrs) | Des Plaines, IL | 10/03/07 | 09/24/07
62242 | Weyerhaeuser Elma Veneer (State) | Elma, WA | 10/03/07 | 10/01/07
62243 | Electric Mobility (State) | Sewell, NJ | 10/03/07 | 10/02/07
62244 | Cummings Signs (AFLCIO) | Nashville, TN | 10/03/07 | 10/02/07
62245 | Flakeboard Particle Board Plant (State) | Albany, OR | 10/03/07 | 10/01/07
62246 | Sunoco Chemicals (USW) | Neville Island, PA | 10/03/07 | 10/01/07
62247 | International Cup Corporation/Soller (Rep) | Bennettsville, SC | 10/03/07 | 09/21/07
62248 | ArvinMeritor (Comp) | Chickasha, OK | 10/04/07 | 10/03/07
62249 | Fiskars Garden and Outdoor Living (Comp) | Sauk City, WI | 10/04/07 | 10/03/07
62250 | Vaughan Furniture Co. Inc. (B.C. Vaughan Plant) (Comp) | Galax, VA | 10/04/07 | 10/03/07
62251 | Precept Medical Products, Inc. (Comp) | Childersburg, AL | 10/04/07 | 10/03/07
62252 | Gavin Chevrolet (Comp) | Middleville, MI | 10/04/07 | 09/27/07
62253 | Manpower, Inc. (State) | Grand Haven, MI | 10/04/07 | 09/28/07
62254 | Accudata (State) | Carlinville, IL | 10/04/07 | 10/03/07
62255 | Liqui-Box Corporation (Wkrs) | Upper Sandusky, OH | 10/04/07 | 09/28/07
62256 | Aearo Technologies (Comp) | Southbridge, MA | 10/04/07 | 10/01/07
62257 | New England Ladder and Scaffolding Company (Wkrs) | Orwigsburg, PA | 10/04/07 | 09/17/07
62258 | Chemtura Corporation (State) | Middlebury, CT | 10/04/07 | 10/03/07
62259 | Dekko Technologies, Inc. (State) | Mt. Ayr, IA | 10/04/07 | 09/28/07
62260 | Flexsteel Industries, Inc. (USW) | Dubuque, IA | 10/05/07 | 10/04/07
62261 | American Uniform Company (Comp) | Cleveland, TN | 10/05/07 | 10/04/07
62262 | Summit Switching (Comp) | Chesapeake, VA | 10/05/07 | 10/04/07
62263 | W. B. Marvin Manufacturing Co. (Comp) | Urbana, OH | 10/05/07 | 09/28/07
62264 | Conexant Systems, Inc. (State) | Newport Beach, CA | 10/05/07 | 10/04/07

[FR Doc. E7-20399 Filed 10-16-07; 8:45 am]

BILLING CODE 4510-FN-P